DEPARTMENT OF JUSTICE

Notice of Lodging of Proposed Consent Decree

In accordance with Departmental Policy, 28 CFR 50.7, notice is hereby given that a proposed Consent Decree in United States of America v. Dennis Wendt, individually and as Trustee of the Dennis Wendt Trust Co., Wendt Construction Co., Inc., and WWW.PERSSARD.INC., Civil Action No. CV-12-2225 (LB), was lodged with the United States District Court for the Northern District of California on May 30, 2012.

This proposed Consent Decree concerns a complaint filed by the United States against Dennis Wendt, individually and as Trustee of the Dennis Wendt Trust Co., Wendt Construction Co., Inc., and WWW.PERSSARD.INC., pursuant to Sections 309(b) and (d) of the Clean Water Act, 33 U.S.C. 1319(b) and (d), to obtain injunctive relief from and impose civil penalties against the Defendants for violating the Clean Water Act by discharging pollutants without a permit into waters of the United States. The proposed Consent Decree resolves these allegations by requiring the Defendants to restore the impacted areas and perform mitigation and to pay a civil penalty.

The Department of Justice will accept written comments relating to this proposed Consent Decree for thirty (30) days from the date of publication of this Notice. Please address comments to Kim Smaczniak, Trial Attorney, P.O. Box 7611, Washington, DC 20044, and refer to United States v. Wendt et al., DJ # 90-5-1-1-18548.

The proposed Consent Decree may be examined at the Clerk's Office, United States District Court for the Northern District of California, Phillip Burton Federal Building and United States Courthouse, 450 Golden Gate Avenue, San Francisco, CA 94102. In addition, the proposed Consent Decree may be examined electronically at http://www.justice.gov/enrd/Consent_Decrees.html.

Cherie L. Rogers,
Assistant Section Chief, Environmental Defense Section, Environment & Natural Resources Division.

[FR Doc. 2012-13873 Filed 6-7-12; 8:45 am]

BILLING CODE P